DEPARTMENT OF TRANSPORTATION

Federal Aviation Administration

14 CFR Part 97

[Docket No. 31160; Amdt. No. 3770]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective October 19, 2017. The compliance date for each SIAP, associated Takeoff Minimums, and ODP is specified in the amendatory provisions.

The incorporation by reference of certain publications listed in the regulations is approved by the Director of the Federal Register as of October 19, 2017.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on October 6, 2017.
John S. Duncan,
Director, Flight Standards Service.

Adoption of the Amendment

Accordingly, pursuant to the authority delegated to me, Title 14, Code of Federal regulations, part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
9-Nov-17 | OH | Cleveland | Cleveland-Hopkins Intl | 7/2523 | 10/3/17 | RNAV (GPS) RWY 24L, Amdt 3C.
9-Nov-17 | WI | New Lisbon | Mauston-New Lisbon Union | 7/5065 | 10/2/17 | RNAV (GPS) RWY 14, Orig-A.
9-Nov-17 | WI | New Lisbon | Mauston-New Lisbon Union | 7/5066 | 10/2/17 | RNAV (GPS) RWY 32, Orig-B.
7-Dec-17 | AZ | Page | Page Muni | 7/0314 | 9/27/17 | VOR-B, Orig.
7-Dec-17 | CA | Los Angeles | Los Angeles Intl | 7/0657 | 10/2/17 | ILS OR LOC RWY 7R, Amdt 8.
7-Dec-17 | TX | Houston | George Bush Intercontinental/Houston | 7/0733 | 10/3/17 | RNAV (GPS) RWY 33R, Amdt 2A.
7-Dec-17 | MA | Beverly | Beverly Rgnl | 7/0961 | 10/2/17 | RNAV (GPS) RWY 34, Orig-D.
7-Dec-17 | MA | Beverly | Beverly Rgnl | 7/0963 | 10/2/17 | VOR RWY 16, Amdt 5C.
7-Dec-17 | MA | Beverly | Beverly Rgnl | 7/0974 | 10/2/17 | RNAV (GPS) RWY 9, Orig.
7-Dec-17 | MA | Beverly | Beverly Rgnl | 7/0981 | 10/2/17 | RNAV (GPS) RWY 27, Amdt 1.
7-Dec-17 | MA | Beverly | Beverly Rgnl | 7/1076 | 10/2/17 | LOC RWY 16, Amdt 7C.
7-Dec-17 | TN | Nashville | Nashville Intl | 7/1618 | 9/27/17 | RNAV (RNP) Z RWY 31, Amdt 1.
7-Dec-17 | AR | Blytheville | Blytheville Muni | 7/1636 | 9/27/17 | RNAV (GPS) RWY 36, Orig.
7-Dec-17 | MO | Potosi | Washington County | 7/1773 | 9/27/17 | RNAV (GPS) RWY 2, Amdt 2A.
7-Dec-17 | MN | Glenwood | Glenwood Muni | 7/1898 | 9/27/17 | VOR RWY 33, Amdt 2B.
7-Dec-17 | NC | Lexington | Davidson County | 7/1938 | 9/27/17 | ILS OR LOC/DME RWY 6, Amdt 1B.
7-Dec-17 | MI | Lakeview | Lakeview-Griffith Field | 7/2119 | 9/27/17 | RNAV (GPS) RWY 10, Orig-A.
7-Dec-17 | TX | Bowie | Bowie Muni | 7/2144 | 9/27/17 | RNAV (GPS) RWY 35, Amdt 1.
7-Dec-17 | TX | Bowie | Bowie Muni | 7/2145 | 9/27/17 | RNAV (GPS) RWY 17, Orig.
7-Dec-17 | TX | Bowie | Bowie Muni | 7/2146 | 9/27/17 | NDB RWY 17, Amdt 4.
7-Dec-17 | AZ | Tucson | Tucson Intl | 7/2148 | 9/26/17 | RNAV (GPS) Z RWY 11L, AMDT 1A.
7-Dec-17 | NC | Greensboro | Piedmont Triad Intl | 7/2229 | 9/26/17 | RNAV (GPS) RWY 23L, Amdt 2B.
7-Dec-17 | IL | Moline | Quad City Intl | 7/2247 | 9/26/17. | RNAV (GPS) RWY 27, Amdt 1B.
7-Dec-17 | CO | Denver | Denver Intl | 7/2261 | 9/26/17 | RNAV (GPS) Y RWY 8, AMDT 1B.
7-Dec-17 | CO | Denver | Denver Intl | 7/2264 | 9/26/17 | RNAV (GPS) Y RWY 17L, Amdt 1A.
7-Dec-17 | CO | Denver | Denver Intl | 7/2265 | 9/26/17 | RNAV (GPS) Y RWY 25, Amdt 1A.
7-Dec-17 | TN | Nashville | Nashville Intl | 7/2615 | 9/27/17 | RVAV (GPS) Y RWY 2C, Amdt 2.
7-Dec-17 | IL | Savanna | Tri-Township | 7/2648 | 9/26/17 | VOR/DME-A, Orig-A.
7-Dec-17 | MN | Duluth | Duluth Intl | 7/2934 | 10/2/17 | VOR OR TACAN RWY 3, Amdt 21A.
7-Dec-17 | SC | Charleston | Charleston Afb/Intl | 7/2965 | 9/27/17 | ILS OR LOC/DME RWY 33, Amdt 8B.
7-Dec-17 | TX | Houston | George Bush Intercontinental/Houston | 7/3347 | 10/3/17 | GLS RWY 27, Amdt 1A.
7-Dec-17 | CO | Colorado Springs | City Of Colorado Springs Muni | 7/3350 | 10/2/17 | RNAV (GPS) Y RWY 17L, Amdt 3A.
7-Dec-17 | UT | Salt Lake City | Salt Lake City Intl | 7/3383 | 10/2/17 | RNAV (GPS) RWY 17, Amdt 2A.
7-Dec-17 | UT | Salt Lake City | Salt Lake City Intl | 7/3385 | 10/2/17 | RNAV (GPS) RWY 34L, Amdt 1B.
7-Dec-17 | UT | Salt Lake City | Salt Lake City Intl | 7/3386 | 10/2/17 | RNAV (GPS) RWY 34R, Amdt 1B.
7-Dec-17 | NJ | Morristown | Morristown Muni | 7/3405 | 9/28/17 | ILS OR LOC RWY 23, Amdt 11.
7-Dec-17 | LA | Alexandria | Alexandria Intl | 7/3426 | 9/27/17 | ILS OR LOC/DME RWY 14, Amdt 1.
7-Dec-17 | NJ | Morristown | Morristown Muni | 7/3428 | 9/28/17 | RNAV (GPS) Z RWY 23, Amdt 1.
7-Dec-17 | CA | Oakland | Metropolitan Oakland Intl | 7/3448 | 10/3/17 | RNAV (GPS) Y RWY 28R, Amdt 3.
7-Dec-17 | ME | Augusta | Augusta State | 7/3522 | 9/27/17 | RNAV (GPS) RWY 8, Amdt 1.
7-Dec-17 | IA | Dubuque | Dubuque Rgnl | 7/3686 | 9/26/17 | RNAV (GPS) RWY 36, Orig.
7-Dec-17 | CA | Bakersfield | Meadows Field | 7/3688 | 9/28/17 | RNAV (GPS) RWY 30R, Amdt 2.
7-Dec-17 | MA | Nantucket | Nantucket Memorial | 7/3691 | 10/2/17 | RNAV (GPS) RWY 24, Amdt 1A.
7-Dec-17 | NY | Elmira/Corning | Elmira/Corning Rgnl | 7/3702 | 9/28/17 | RNAV (GPS) RWY 24, Amdt 2A.
7-Dec-17 | MI | Lansing | Capital Region Intl | 7/3730 | 9/27/17 | RNAV (GPS) RWY 10R, Orig.
7-Dec-17 | MI | Lansing | Capital Region Intl | 7/3731 | 9/27/17 | RNAV (GPS) RWY 28L, Amdt 1.
7-Dec-17 | MI | Pontiac | Oakland County Intl | 7/3734 | 9/28/17 | RNAV (GPS) RWY 9R, Orig.
7-Dec-17 | MI | Battle Creek | W K Kellogg | 7/3737 | 9/28/17 | RNAV (GPS) RWY 23R, Amdt 1A.
7-Dec-17 | ID | Pocatello | Pocatello Rgnl | 7/3738 | 9/28/17 | RNAV (GPS) RWY 21, Amdt 1A.
7-Dec-17 | GA | Savannah | Savannah/Hilton Head Intl | 7/3740 | 9/28/17 | RNAV (GPS) RWY 10, Amdt 2.
7-Dec-17 | KY | Covington | Cincinnati/Northern Kentucky Intl | 7/3786 | 9/26/17 | ILS OR LOC RWY 27, Amdt 17B.
7-Dec-17 | KY | Covington | Cincinnati/Northern Kentucky Intl | 7/3787 | 9/26/17 | RNAV (GPS) Y RWY 36R, Amdt 1B.
7-Dec-17 | CA | Oakland | Metropolitan Oakland Intl | 7/3795 | 9/27/17 | RNAV (GPS) Y RWY 30, Amdt 5C.
7-Dec-17 | MI | Grand Rapids | Gerald R Ford Intl | 7/3819 | 9/27/17 | ILS OR LOC RWY 26L, Amdt 21B.
7-Dec-17 | MI | Grand Rapids | Gerald R Ford Intl | 7/3820 | 9/27/17 | ILS OR LOC RWY 35, Amdt 2.
7-Dec-17 | MI | Grand Rapids | Gerald R Ford Intl | 7/3821 | 9/27/17 | ILS OR LOC RWY 8R, Amdt 6B.
7-Dec-17 | MI | Grand Rapids | Gerald R Ford Intl | 7/3826 | 9/27/17 | RNAV (GPS) RWY 8R, Amdt 1A.
7-Dec--17 | MI | Grand Rapids | Gerald R Ford Intl | 7/3828 | 9/27/17 | RNAV (GPS) RWY 26L, Amdt 1A.
7-Dec-17 | MI | Grand Rapids | Gerald R Ford Intl | 7/3829 | 9/27/17 | RNAV (GPS) RWY 35, Amdt 1A.
7-Dec-17 | WA | Port Angeles | William R Fairchild Intl | 7/3831 | 9/27/17 | RNAV (GPS) RWY 26, Amdt 1.
7-Dec-17 | TX | Kerrville | Kerrville Muni/Louis Schreiner Field | 7/3940 | 9/27/17 | RNAV (GPS) RWY 12, Amdt 1.
7-Dec-17 | WA | Bellingham | Bellingham Intl | 7/3997 | 10/2/17 | RNAV (GPS) Y RWY 16, Amdt 3A.
7-Dec-17 | WA | Pasco | Tri-Cities | 7/4045 | 9/27/17 | RNAV (GPS) Y RWY 21R, Amdt 2A.
7-Dec-17 | MA | New Bedford | New Bedford Rgnl | 7/4060 | 9/26/17 | RNAV (GPS) RWY 5, Amdt 1B.
7-Dec-17 | MA | Vineyard Haven | Martha's Vineyard | 7/4130 | 10/3/17 | RNAV (GPS) RWY 24, Amdt 2D.
7-Dec-17 | TX | Waco | Waco Rgnl | 7/4483 | 9/27/17 | RNAV (GPS) RWY 19, Orig-B.
7-Dec-17 | WA | Walla Walla | Walla Walla Rgnl | 7/4570 | 9/27/17 | RNAV (GPS) RWY 20, Amdt 1.
7-Dec-17 | OH | Mansfield | Mansfield Lahm Rgnl | 7/4611 | 9/26/17 | RNAV (GPS) RWY 32, Orig-D.
7-Dec-17 | KY | Danville | Stuart Powell Field | 7/4658 | 10/2/17 | RNAV (GPS) RWY 12, Orig.
7-Dec-17 | KY | Danville | Stuart Powell Field | 7/4662 | 10/2/17 | RNAV (GPS) RWY 30, Orig.
7-Dec-17 | KY | Danville | Stuart Powell Field | 7/4668 | 10/2/17 | NDB-A, Amdt 8.
7-Dec-17 | ME | Brunswick | Brunswick Executive | 7/4801 | 10/2/17 | RNAV (GPS) RWY 19L, Amdt 1A.
7-Dec-17 | NY | New York | Long Island Mac Arthur | 7/4917 | 9/26/17 | RNAV (GPS) RWY 24, Amdt 3.
7-Dec-17 | SC | Greer | Greenville Spartanburg Intl | 7/4939 | 10/2/17 | RNAV (GPS) RWY 4, Amdt 2A.
7-Dec-17 | IA | Mason City | Mason City Muni | 7/6166 | 9/26/17 | ILS OR LOC RWY 36, Amdt 6F.
7-Dec-17 | TN | Jasper | Marion County-Brown Field | 7/6472 | 9/26/17 | RNAV (GPS) RWY 4, Orig-A.
7-Dec-17 | IN | New Castle | New Castle-Henry Co Muni | 7/6600 | 9/26/17 | RNAV (GPS) RWY 27, Orig-A.
7-Dec-17 | SC | Anderson | Anderson Rgnl | 7/6804 | 9/26/17 | RNAV (GPS) RWY 35, Amdt 1A.
7-Dec-17 | LA | Monroe | Monroe Rgnl | 7/6853 | 9/28/17 | RNAV (GPS) RWY 22, Amdt 1A.
7-Dec-17 | SC | Anderson | Anderson Rgnl | 7/7101 | 9/26/17 | RNAV (GPS) RWY 23, Amdt 1.
7-Dec-17 | SC | Anderson | Anderson Rgnl | 7/7105 | 9/26/17 | RNAV (GPS) RWY 5, Amdt 1A.
7-Dec-17 | SC | Anderson | Anderson Rgnl | 7/7106 | 9/26/17 | ILS OR LOC RWY 5, Amdt 1A.
7-Dec-17 | SC | Anderson | Anderson Rgnl | 7/7107 | 9/26/17 | VOR RWY 5, Amdt 10.
7-Dec-17 | SC | Anderson | Anderson Rgnl | 7/7115 | 9/26/17 | RNAV (GPS) RWY 17, Amdt 1A.
7-Dec-17 | FL | Tampa | Tampa Intl | 7/7377 | 9/26/17 | RNAV (GPS) RWY 1L, Amdt 2B.
7-Dec-17 | OK | Elk City | Elk City Rgnl Business | 7/7415 | 9/26/17 | Takeoff Minimums and Obstacle DP, Amdt 1.
7-Dec-17 | IN | Connersville | Mettel Field | 7/7481 | 10/3/17 | VOR-A, Amdt 1A.
7-Dec-17 | AZ | Tucson | Tucson Intl | 7/7560 | 9/26/17 | RNAV (RNP) Y RWY 29R, Orig-D.
7-Dec-17 | AZ | Tucson | Tucson Intl | 7/7573 | 9/26/17 | RNAV (GPS) RWY 21, Orig-A.
7-Dec-17 | IL | Chicago | Chicago O'Hare Intl | 7/7608 | 9/28/17 | RNAV (GPS) RWY 15, Amdt 2E.
7-Dec-17 | NY | Schenectady | Schenectady County | 7/7666 | 9/26/17 | RNAV (GPS) RWY 28, Orig-D.
7-Dec-17 | TX | Houston | George Bush Intercontinental/Houston | 7/7831 | 10/3/17 | GLS RWY 8L, Amdt 1A.
7-Dec-17 | TX | Houston | George Bush Intercontinental/Houston | 7/7833 | 10/3/17 | GLS RWY 8R, Amdt 1A.
7-Dec-17 | TX | Houston | George Bush Intercontinental/Houston | 7/7834 | 10/3/17 | GLS RWY 9, Amdt 1A.
7-Dec-17 | TX | Houston | George Bush Intercontinental/Houston | 7/7837 | 10/3/17 | GLS RWY 26L, Amdt 1A.
7-Dec-17 | TX | Houston | George Bush Intercontinental/Houston | 7/7838 | 10/3/17 | GLS RWY 26R, Amdt 1A.
7-Dec-17 | FL | Titusville | Space Coast Rgnl | 7/7946 | 10/2/17 | RNAV (GPS) RWY 9, Amdt 1A.
7-Dec-17 | PA | Coatesville | Chester County G O Carlson | 7/7990 | 9/26/17 | ILS OR LOC RWY 29, Amdt 7.
7-Dec-17 | PA | Coatesville | Chester County G O Carlson | 7/7996 | 9/26/17 | RNAV (GPS) RWY 29, Orig.
7-Dec-17 | PA | Coatesville | Chester County G O Carlson | 7/7997 | 9/26/17 | RNAV (GPS) RWY 11, Orig.
7-Dec-17 | MA | Provincetown | Provincetown Muni | 7/8468 | 9/27/17 | RNAV (GPS) RWY 25, Orig-B.
7-Dec-17 | MA | Provincetown | Provincetown Muni | 7/8469 | 9/27/17 | NDB RWY 25, Amdt 2B.
7-Dec-17 | KS | Manhattan | Manhattan Rgnl | 7/8555 | 9/26/17 | RNAV (GPS) RWY 21, Amdt 1.
7-Dec-17 | KS | Manhattan | Manhattan Rgnl | 7/8586 | 9/26/17 | VOR/DME-F, Amdt 1.
7-Dec-17 | KS | Manhattan | Manhattan Rgnl | 7/8589 | 9/26/17 | RNAV (GPS) RWY 3, Amdt 1.
7-Dec-17 | KS | Manhattan | Manhattan Rgnl | 7/8593 | 9/26/17 | ILS OR LOC/DME RWY 3, AMDT 7A.
7-Dec-17 | MS | Madison | Bruce Campbell Field | 7/8620 | 9/26/17 | RNAV (GPS) RWY 17, Amdt 1B.
7-Dec- 17 | MS | Madison | Bruce Campbell Field | 7/8624 | 9/26/17 | RNAV (GPS) RWY 35, Orig-B.
7-Dec-17 | CA | Susanville | Susanville Muni | 7/9026 | 9/27/17 | RNAV (GPS) RWY 29, Amdt 1A.
7-Dec-17 | LA | Slidell | Slidell | 7/9663 | 10/2/17 | RNAV (GPS) RWY 36, Orig-C.

[FR Doc. 2017-22503 Filed 10-18-17; 8:45 am]

BILLING CODE 4910-13-P